DEPARTMENT OF DEFENSE

Office of the Secretary

Federal Advisory Committee; Response Systems to Adult Sexual Assault Crimes Panel; Charter Amendment

AGENCY: DoD.

ACTION: Charter amendment.

SUMMARY: The Department of Defense (DoD) is publishing this notice to announce that it is amending the charter for the Response Systems to Adult Sexual Assault Crimes Panel (“the Panel”).

FOR FURTHER INFORMATION CONTACT: Jim Freeman, Advisory Committee Management Officer for the DoD, 703-692-5952.

SUPPLEMENTARY INFORMATION: This Panel's charter is being amended under the provisions of the Federal Advisory Committee Act of 1972 (5 U.S.C. Appendix, as amended), the Government in the Sunshine Act of 1976 (5 U.S.C. 552b) (“the Sunshine Act”), and 41 CFR 102-3.50(d).

The Panel is a discretionary Federal advisory committee that shall provide the Committees on the Armed Services of the Senate and the House of Representatives, through the General Counsel of the DoD and the Secretary of Defense, a report of its findings and recommendations. The Panel will conduct an independent review and assessment of the systems used to investigate, prosecute, and adjudicate crimes involving adult sexual assault and related offenses, under 10 U.S.C. 920 (Article 120, Uniform Code of Military Justice (UCMJ)), for the purpose of developing recommendations regarding how to improve the effectiveness of such systems. Additionally, Section 1731(a) of the National Defense Authorization Act for Fiscal Year 2014 (“the FY 2014 NDAA”) (Pub. L. 113-66) established additional tasks.

Pursuant to Section 576(b)(1)(A) of the FY 2013 NDAA, the Panel shall be comprised of nine members, five of whom are appointed by the Secretary of Defense and one member each appointed by the Chairmen and Ranking Members of the Committees on Armed Services of the Senate and the House of Representatives, respectively.

The members shall be selected from among private United States citizens, who collectively possess expertise in military law, civilian law, the investigation, prosecution, and adjudication of sexual assaults in Federal and State criminal courts, victim advocacy, treatment for victims, military justice, the organization and missions of the Armed Forces, and offenses relating to rape, sexual assault, and other adult sexual assault crimes. The chair shall be appointed by the Secretary of Defense from among the members of the Panel. Members shall be appointed for the life of the Panel. Any vacancy in the Panel shall be filled in the same manner as the original appointment. Members of the Panel, who were appointed by the Secretary of Defense, shall be appointed as experts or consultants, under the authority of 5 U.S.C. 3109, to serve as special government employee (SGE) members.

Panel members shall, with the exception of travel and per diem for official travel, serve without compensation, unless authorized by the Secretary of Defense.

Each Panel member is appointed to provide advice to the government on the basis of his or her best judgment without representing any particular point of view and in a manner that is free from conflict of interest.

The Department, when necessary and consistent with the Panel's mission, may establish subcommittees, task forces, and working groups. Establishment of subcommittees will be based upon a written determination, to include terms of reference, by the Secretary of Defense, the Deputy Secretary of Defense, or the Office of the General Counsel of the DoD.

These subcommittees shall not work independently of the Panel and shall report all of their recommendations and advice to the Panel for full deliberation and discussion. Subcommittees, task forces, or working groups have no authority to make decisions and recommendations, verbally or in writing, on behalf of the Panel. No subcommittee or any of its members can update or report, verbally or in writing, on behalf of the Panel directly to the DoD or any Federal officer or employee.

The Secretary of Defense shall appoint subcommittee members even if the member in question is already a member of the Panel. Such individuals, if not full-time or part-time government personnel, shall be appointed as experts or consultants, under the authority of 5 U.S.C. 3109, to serve as SGE members. Subcommittee members shall serve for the life of the subcommittee. With the exception of travel and per diem for official travel related to the Panel or its subcommittees, subcommittee members shall serve without compensation.

All subcommittees operate pursuant to the provisions of FACA, the Sunshine Act, governing Federal statutes and regulations, and established DoD policies and procedures. The Panel's Designated Federal Officer (DFO) shall be a full-time or permanent part-time DoD employee and shall be appointed in accordance with established DoD policies and procedures.

The Panel's DFO is required to be in attendance at all meetings of the Panel and its subcommittees for the entire duration of each and every meeting. However, in the absence of the Panel's DFO, a properly approved Alternate DFO, duly appointed to the Panel according to established DoD policies and procedures, shall attend the entire duration of all meetings of the Panel and its subcommittees.

The DFO, or the alternate DFO, shall call all of the Panel's and its subcommittee's meetings; prepare and approve all meeting agendas; and adjourn any meeting, when the DFO, or the alternate DFO, determines adjournment to be in the public interest or required by governing regulations or DoD policies and procedures; and chair meetings when directed to do so by the official to whom the Panel reports.

Pursuant to 41 CFR 102-3.105(j) and 102-3.140, the public or interested organizations may submit written statements to the Panel membership about the Panel's mission and functions. Written statements may be submitted at any time or in response to the stated agenda of planned meeting of the Panel.

All written statements shall be submitted to the DFO for the Panel, and this individual will ensure that the written statements are provided to the membership for their consideration. Contact information for the Panel DFO can be obtained from the GSA's FACA Database— http://www.facadatabase.gov/.

The DFO, pursuant to 41 CFR 102-3.150, will announce planned meetings of the Panel. The DFO, at that time, may provide additional guidance on the submission of written statements that are in response to the stated agenda for the planned meeting in question.

Dated: April 22, 2014.
Aaron Siegel,
Alternate OSD Federal Register Liaison Officer, Department of Defense.

[FR Doc. 2014-09408 Filed 4-24-14; 8:45 am]

BILLING CODE 5001-06-P